FEDERAL COMMUNICATIONS COMMISSION

47 CFR Part 73

[DA 05-1020; MB Docket No. 05-166; RM-11228]

Radio Broadcasting Services; McAlester, Okemah, and Wilburton, OK

AGENCY: Federal Communications Commission.

ACTION: Proposed rule.

SUMMARY: The Audio Division requests comment on a petition jointly filed by Little Dixie Radio, Inc., KESC Enterprises, Inc., and Southeastern Oklahoma Radio, LLC, to reallot and change the community of license for Station KESC(FM) from Channel 279C1 at Wilburton, Oklahoma, to Channel 279C1 at Okemah, Oklahoma. To prevent the removal of the sole local aural service at Wilburton, the document proposes to reallot and change the community of license for Station KMCO(FM) from Channel 267C1 at McAlester, Oklahoma to Channel 267C1 at Wilburton, Oklahoma. See Supplementary Information.

DATES: Comments must be filed on or before May 31, 2005, and reply comments on or before June 14, 2005.

ADDRESSES: Federal Communications Commission, 445 Twelfth Street, SW., Washington, DC 20554. In addition to filing comments with the FCC, interested parties should serve the petitioner, as follows: Richard R. Zaragoza, Esq., Veronica D. McLaughlin Tippet, Esq., Shaw Pittman LLP, 2300 N Street, NW., Washington, DC 20037-1128.

FOR FURTHER INFORMATION CONTACT: Andrew J. Rhodes, Media Bureau, (202) 418-2180.

SUPPLEMENTARY INFORMATION: This is a summary of the Commission's Notice of Proposed Rule Making, MB Docket No. 05-166, adopted April 6, 2005 and released April 8, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Pursuant to § 1.420(i) of the Commission's Rules, we shall not accept competing expressions of interest pertaining to the use of Channels 279C1 at Okemah or 267C1 at Wilburton. Channel 279C1 can be allotted to Okemah at reference coordinates of 35-14-22 and 96-18-48. Channel 267C1 can be reallotted to Wilburton at Station KMCO(FM)'s current site at reference coordinates 34-59-13 and 95-42-10.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by removing Channel 267C1 at McAlester, adding Okemah, Channel 279C1, and removing Channel 279C1 and adding Channel 267C1 at Wilburton.

Federal Communications Commission.
John A. Karousos,
Assistant Chief, Audio Division, Media Bureau.

[FR Doc. 05-8212 Filed 4-26-05; 8:45 am]

BILLING CODE 6712-01-P